AGENCY FOR INTERNATIONAL DEVELOPMENT

Malaria Vaccine Development Program; Federal Advisory Committee; Notice of Meeting

Pursuant to the Federal Advisory Committee Act, notice is hereby given of a meeting of the USAID Malaria Vaccine Development Program (MVDP) Federal Advisory Committee. The meeting will be held from 9 am to 5 pm on 12 September and from 9 am to 3 pm on 13 September, 2000.

The agenda will concentrate on the activities of the MVDP over the past six months and on future plans. Since proprietary information will be discussed throughout the meeting it will be closed to the public.

Those wishing to obtain additional information about the USAID MVDP should contact Carter Diggs, the designated Federal Officer for the USAID MVDP Federal Advisory Committee at the Office of Health and Nutrition, USAID/G/PHN/HN/EH, Room 3.07-013, 3rd floor, RRB, Washington, DC 20523-3700, telephone (202) 712-5728m Fax (202) 216-3702, cdiggs@usaid.gov.

Carter Diggs,
USAID Designated Federal Officer, Senior Technical Advisor, Malaria Vaccine Development Program.

[FR Doc. 00-21536 Filed 8-22-00; 8:45 am]

BILLING CODE 6116-01-M